DEPARTMENT OF DEFENSE

Office of the Secretary

[Transmittal No. 23-0G]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0G.

Dated: October 2, 2024.
Aaron T. Siegel,
Alternate OSD Federal Register Liaison Officer, Department of Defense.

Transmittal No. 23-0G

REPORT OF ENHANCEMENT OR UPGRADE OF SENSITIVITY OF TECHNOLOGY OR CAPABILITY (SEC. 36(B)(5)(C), AECA)

(i) Purchaser: Taipei Economic and Cultural Representative Office in the United States (TECRO)

(ii) Sec. 36(b)(1), AECA Transmittal No.: 20-74

Date: December 11, 2020

Military Department: Air Force

(iii) Description: On December 11, 2020, Congress was notified by congressional certification transmittal number 20-74 of the possible sale, under Section 36(b)(1) of the Arms Export Control Act, of four (4) Weapons-Ready MQ-9B Unmanned Aircraft Systems (UAS); two (2) Fixed Ground Control Stations; two (2) Mobile Ground Control Stations; and fourteen (14) Embedded Global Positioning System/Inertial Navigations Systems (EGI) with Selective Availability Anti-Spoofing Module (SAASM) (12 installed, 2 spares). Also included were MX-20 Multi-Spectral Targeting Systems and spares; SeaVue Maritime Multi-Role Patrol Radars; SAGE 750 Electronic Surveillance Measures (ESM) Systems; C-Band Line-of-Sight (LOS) Ground Data Terminals; Ku-Band SATCOM GA-ASI Transportable Earth Stations (GATES); AN/DPX-7 Identification Friend or Foe (IFF) Transponders; Honeywell TPE-331-10GD Turboprop Engines; M6000 UHF/VHF Radios; KIV-77 Mode 5 IFF cryptographic appliques; AN/PYQ-10C Simple Key Loaders; secure communications, cryptographic, and IFF equipment; initial spare and repair parts; hard points, power, and data connections for weapons integration; support and test equipment; publications and technical documentation; personnel training and training equipment; U.S. Government and contractor engineering, technical, and logistics support services; and other related elements of logistical and program support. The total estimated program cost was $600 million. Major Defense Equipment (MDE) constituted $153 million of this total.

This transmittal notifies the inclusion of the following MDE items: an additional two (2) Embedded Global Positioning System/Inertial Navigation System (GPS/INS) (EGI) with SAASM or M-code capability; and six (6) AN/APY-8 Lynx Synthetic Aperture Radar (SAR) and Ground Moving Target Indicator (GMTI) systems. Also included are Sierra Nevada Corporation (SNC) 4500 Electronic Intelligence (ELINT) Systems; Remotely Operated Video Enhanced Receiver (ROVER) 6Sx systems and Video Dissemination Links (VDL); Digital Datalink Encryptors; Automatic Information System Transponders; KOR-24A tactical airborne radios; and portable pre/post-flight equipment; as well as additional units of the following: MX-20 Multi-Spectral Targeting Systems; SeaVue Maritime Multi-Role patrol radars; SAGE 750 Electronic Surveillance Measures (ESM) systems; C-Band Line-of-Sight (LOS) ground data terminals; Honeywell TPE-331-10GD turboprop engines; M6000 UHF/VHF radios; cryptographic and IFF equipment; and Simple Key Loaders. This transmittal further notifies the following non-MDE items that were inadvertently omitted from the original notification: Due Regard Radars (DRR); and KY-100M narrowband/wideband cryptographic devices. The estimated total value of the additional items is $152 million. The total estimated MDE value will increase by $14 million to $167 million. The estimated total case value will increase to $752 million.

(iv) Significance: The proposed sale will improve the recipient's capability to meet current and future threats by providing timely Intelligence, Surveillance, and Reconnaissance (ISR), target acquisition, and counter-land, counter-sea, and anti-submarine strike capabilities for its security and defense.

(v) Justification: This proposed sale serves U.S. national, economic, and security interests by supporting the recipient's continuing efforts to modernize its armed forces and to maintain a credible defensive capability. The proposed sale will help improve the security of the recipient and assist in maintaining political stability, military balance, and economic progress in the region.

(vi) Sensitivity of Technology:

The Embedded Global Positioning System/Inertial Navigation System (GPS/INS) (EGI) with Selective Availability Anti-Spoofing Module (SAASM)—or M-Code receiver when available—and Precise Positioning Service (PPS) is a self-contained navigation system that provides information on the following: acceleration, velocity, position, attitude, platform azimuth, magnetic and true heading, altitude, body angular rates, time tags, and coordinated universal time (UTC) synchronized time. SAASM or M-Code enables the GPS receiver access to the encrypted P(Y) code or M code signal, providing protection against active spoofing attacks.

The AN/APY-8 Lynx Synthetic Aperture Radar (SAR) and Ground Moving Target Indicator (GMTI) system provides all-weather surveillance, tracking and targeting for military and commercial customers from manned and unmanned vehicles.

The Due Regard Radar (DRR) is a collision avoidance air-to-air radar comprised of a two-panel Active Electronically Scanned Array (AESA) antenna and a Radar Electronics Assembly (REA) that give the UAS pilot the ability to detect and track aircraft across the same Field-of-View (FOV) as a manned aircraft. AESA technology allows the DRR to track multiple targets while simultaneously continuing to scan for new aircraft.

The KY-100Ms provide encryption to enable secure voice communications over the MQ-9B's radios.

The SNC 4500E ELINT system is used to detect, identify, and locate various radar emitters and provide the collected data to operational users for further analysis and exploitation.

The L3 Harris ROVER 6Sx/6Si transceiver provides real-time, full-motion video (FMV) and other network data for situational awareness, targeting, battle damage assessment, surveillance, relay, convoy over-watch operations and other situations where eyes-on-target are required. It provides expanded frequencies and additional processing resources from previous ROVER versions, allowing increased levels of collaboration and interoperability with numerous manned and unmanned airborne platforms.

The Automatic Identification System (AIS) Transponder provides the ability to track & identify AIS-equipped maritime vessels over VHF.

The Digital Datalink Encryptors provide NSA Type-1 encryption for each High Data Rate (HDR) datalink. The MQ-9B system utilizes multiple independent datalinks to provide communications between the Ground Control Station and the aircraft.

The KOR-24A Small Tactical Terminal (STT) is a two channel, software defined, small form factor Link 16 radio. The STT provides high assurance secure communications.

The Portable Pre-flight/Post-flight Equipment (P3E) is used by the ground crew at the MQ-9B operating sites to interface with the aircraft for performing maintenance functions. The P3E is a ruggedized computer assembly that interfaces directly with the aircraft via a cable and provides functionality for conducting pre and post-flight checks, and to establish the aircraft on the SATCOM datalink for handover to the flight crew in the Ground Control Station.

The Sensitivity of Technology Statement contained in the original notification applies to additional items reported here.

The highest level of classification of defense articles, components, and services included in this potential sale is SECRET.

(vii) Date Report Delivered to Congress: June 8, 2023

[FR Doc. 2024-23112 Filed 10-4-24; 8:45 am]

BILLING CODE 6001-FR-P